DEPARTMENT OF EDUCATION

Notice of Proposed Extension of Project Period and Waiver for the State and Federal Policy Forum for Program Improvement Center (CFDA No. 84.326F)

AGENCY: Office of Special Education Programs, Office of Special Education and Rehabilitative Services, Department of Education.

ACTION: Notice of proposed extension of project period and waiver for the State and Federal Policy Forum for Program Improvement Center (CFDA No. 84.326F).

SUMMARY: The Secretary proposes to waive the requirements in the Education Department General Administrative Regulations (EDGAR), in 34 CFR 75.250 and 75.261(a) and (c), respectively, that generally prohibit project periods exceeding five years and extensions of project periods involving the obligation of additional Federal funds. This extension of project period and waiver would enable the currently funded State and Federal Policy Forum for Program Improvement Center to receive funding from October 1, 2010 through September 30, 2011.

DATES: We must receive your comments on or before August 12, 2010.

ADDRESSES: Address all comments about this proposed extension of project period and waiver to Patricia Gonzalez, U.S. Department of Education, 400 Maryland Avenue, SW., Room 4057, Potomac Center Plaza, Washington, DC 20202-2600. Telephone: (202) 245-7355.

If you prefer to send your comments by e-mail, use the following address: patricia.gonzalez@ed.gov. You must include the phrase “proposed extension of project period and waiver” in the subject line of your message.

FOR FURTHER INFORMATION CONTACT: Patricia Gonzalez at the address listed in the ADDRESSES section of this notice. Telephone: (202) 245-7355. If you use a telecommunications device for the deaf (TDD), call the Federal Relay Service (FRS), toll-free, at 1-800-877-8339.

Individuals with disabilities can obtain this document in an accessible format (e.g., braille, large print, audiotape, or computer diskette) on request to the contact person listed in this section:

Invitation To Comment

We invite you to submit comments regarding this proposed extension of project period and waiver.

During and after the comment period, you may inspect all public comments about this proposed extension of project period and waiver in room 4082, Potomac Center Plaza, 550 12th Street, SW., Washington, DC, between the hours of 8:30 a.m. and 4:00 p.m., Eastern time, Monday through Friday of each week except Federal holidays.

Assistance to Individuals With Disabilities in Reviewing the Rulemaking Record

On request, we will supply an appropriate accommodation or auxiliary aid to an individual with a disability who needs assistance to review the comments or other documents in the public rulemaking record for this proposed extension of project period and waiver. If you want to schedule an appointment for this type of accommodation or auxiliary aid, please contact the person listed under FOR FURTHER INFORMATION CONTACT.

Background

On March 3, 2005, the Department published a notice in the Federal Register (70 FR 10374), inviting applications for new awards for fiscal year (FY) 2005 under the Technical Assistance and Dissemination to Improve Services and Results for Children with Disabilities (TA&D) program, authorized under section 663 of the Individuals with Disabilities Education Act (IDEA), to support a State and Federal Policy Forum for Program Improvement Center (Project Forum). Based on that notice, the Department made one award for a period of 60 months to the National Association of State Directors of Special Education to carry out Project Forum. The purpose of Project Forum is to provide States, local educational agencies (LEAs) and Federal decision makers responsible for the implementation of the Individuals with Disabilities Education Act (IDEA) with access to valid statistics, research findings, policy analyses, and current information on trends in the provision of special education and related services and early intervention services. Specifically, Project Forum assists States and LEAs with the process of planning systemic changes that will promote improved early intervention, education, and transitional results for children with disabilities. Project Forum also provides the Office of Special Education Programs (OSEP) with a mechanism and resources for analyzing policies and emerging issues that are of significant national concern.

Project Forum's current project period is scheduled to end on September 30, 2010. We do not believe it would be in the public interest to hold new competitions under the TA&D program until the Department has considered changes being made to the Elementary and Secondary Education Act (ESEA) during the process of reauthorizing that Act and the Department has developed a coordinated strategy for the provision of technical assistance that is designed to help States, LEAs, and schools effectively implement key provisions of the ESEA and IDEA and improve educational results for all students. We also have concluded that it would be contrary to the public interest to have a lapse in the provision of technical assistance provided under the TA&D program pending the reauthorization of ESEA. For these reasons, the Secretary proposes to waive the requirements in 34 CFR 75.250, which prohibit project periods exceeding five years, and the requirements in 34 CFR 75.261(a) and (c), which limit the extension of a project period if the extension involves the obligation of additional Federal funds, and issue a continuation award in the amount of $450,000 to the National Association of State Directors of Special Education (H326F050001) for an additional twelve-month period.

Waiving these regulations and issuing this continuation award would ensure that continued technical assistance is available to assist Federal decision makers, States, and LEAs with systemic changes that will promote improved early intervention, education, and transitional results for children with disabilities, as the Department works on reauthorization of the ESEA and designs IDEA technical assistance competitions that are coordinated and aligned with the Department's technical assistance priorities.

During the next fiscal year, Project Forum would conduct the following activities:

(a) Identify, through contact with experts, research reviews, regular communication with State and local policy officials, and other types of needs assessments, the information that programs need to improve, both at the national, State, and local levels;

(b) Collect, organize, synthesize, interpret, and integrate information needed for program improvement using a variety of methods and formats such as surveys, interviews, brief case examinations, and meetings among special education administrators, outside experts, representatives of students with disabilities and their families, and others;

(c) Analyze emerging policy or program issues regarding the administration of special education, early intervention, and related services at the Federal, State, and local levels, and review, plan, and provide leadership in recommending multi-level actions that respond to emerging issues;

(d) Communicate, collaborate, and form partnerships as appropriate and as directed by OSEP, with technical assistance providers at the national and regional levels, including those that are part of the OSEP-supported special education technical assistance and dissemination network;

(e) Communicate regularly with OSEP to provide and receive information that may assist OSEP in improving its efficiency and effectiveness in administering IDEA;

(f) As a result of the activities associated with paragraphs (a) through (e), at a minimum—

(1) Complete three in-depth policy analyses;

(2) Prepare ten policy syntheses; and

(3) Convene one policy forum and write a proceedings document;

(g) Disseminate documents noted under paragraph (f) to a wide audience, including State and local directors of special education; and

(h) Maintain the project Web site.

Regulatory Flexibility Act Certification

The Secretary certifies that the proposed extension of project period and waiver would not have a significant economic impact on a substantial number of small entities. The only entity that would be affected is Project Forum.

Paperwork Reduction Act of 1995

This proposed extension of project period and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 22, 2010.
Alexa Posny,
Assistant Secretary for Special Education and Rehabilitative Services.

[FR Doc. 2010-18525 Filed 7-27-10; 8:45 am]

BILLING CODE 4000-01-P